COMMITTEE FOR PURCHASE FROM PEOPLE WHO ARE BLIND OR SEVERELY DISABLED

Procurement List; Proposed Additions and Deletion

AGENCY: Committee for Purchase From People Who Are Blind or Severely Disabled.

ACTION: Proposed Additions to and Deletion from the Procurement List.

SUMMARY: The Committee is proposing to add a product and services to the Procurement List that will be furnished by nonprofit agencies employing persons who are blind or have other severe disabilities, and deletes a service previously provided by such agency.

COMMENTS MUST BE RECEIVED ON OR BEFORE: 2/18/2013.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 USC 8503(a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

The following product and services are proposed for addition to the Procurement List for production by the nonprofit agencies listed:

Product

NSN: MR 1145—Server, Gravy Boat

NPA: Winston-Salem Industries for the Blind, Inc., Winston-Salem, NC

Contracting Activity: Military Resale-Defense Commissary Agency (DeCA), Fort Lee, VA

Coverage: C-List for the requirements of military commissaries and exchanges as aggregated by the Defense Commissary Agency.

Services

Service Type/Location: Custodial Service, Colorado Springs USARC, 4195 Foreign Trade Zone Blvd., Colorado Springs, CO.

NPA: Pueblo Diversified Industries, Inc., Pueblo, CO.

Contracting Activity: DEPT OF THE ARMY, W6QM MICC-ARCC NORTH, FORT MCCOY, WI

Service Type/Location: Mess Attendant Service, McConnell Air Force Base, KS.

NPA: Training, Rehabilitation, & Development Institute, Inc., San Antonio, TX.

Contracting Activity: Dept of the Air Force, FA4621 22 CONS LGC, McconnelL AFB, KS

The Nonprofit employees will perform specific tasks including preparation of menu boards, table bussing service, guest flow rate, service of food, replenishing of food, unloading, storing, and shelving of supplies, food preparation, cashier services, sanitation requirements, housekeeping services, ordering reimbursable consumables/supplies, waste management, grounds maintenance, preventative maintenance, maintenance and repair, conduct, hours of operation, contingency workload for contract cooks, quality control program, phase-in, and in the event of contingency, perform all required tasks to include cooking to ensure continued service.

Deletion

The following service is proposed for deletion from the Procurement List:

Service

Service Type/Location: Facilities Maintenance, Yakima Training Center (YTC) and Multipurpose Range Complex, Multipurpose Training Range, Yakima, WA.

NPA: Skookum Educational Programs, Bremerton, WA.

Contracting Activity: Dept of the Army, W6QM MICC-JB Lewis-MC Chord, Fort Lewis, WA

Barry S. Lineback,
Director, Business Operations.

[FR Doc. 2013-01028 Filed 1-17-13; 8:45 am]

BILLING CODE 6353-01-P